DEPARTMENT OF HEALTH AND HUMAN SERVICES

Centers for Disease Control and Prevention

[60Day-21-1303; Docket No. CDC-2021-0035]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled TEMPORARY HALT IN RESIDENTIAL EVICTIONS TO PREVENT THE FURTHER SPREAD OF COVID-19. The information collection originally pertained to the September 4, 2020 CDC Order of the same name that temporarily halts residential evictions of covered persons for nonpayment of rent from September 4, 2020, through December 31, 2020. The Consolidated Appropriations Act, 2021, statutorily extended CDC's Order until January 31, 2021. On January 29, 2021, the CDC Director renewed the Order until March 31, 2021. As of March 31, the Order is further extended until June 30, 2021. The Declaration in this information collection request will serve as an attestation by a tenant, lessee, or resident that they meet the criteria therein, to prevent an eviction proceeding per the Order issued by the CDC.

DATES: CDC must receive written comments on or before June 11, 2021.

ADDRESSES: You may submit comments, identified by Docket No. CDC-2021-0035 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (Regulations.gov) or by U.S. mail to the address listed above.

FOR FURTHER INFORMATION CONTACT: To request more information on the proposed project or to obtain a copy of the information collection plan and instruments, contact Jeffrey M. Zirger, of the Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses, and;

5. Assess information collection costs.

Proposed Project

TEMPORARY HALT IN RESIDENTIAL EVICTIONS TO PREVENT THE FURTHER SPREAD OF COVID-19—Extension—National Center for Emerging Zoonotic and Infectious Diseases (NCEZID), Centers for Disease Control and Prevention (CDC).

Background and Brief Description

Recent CDC actions in response to COVID included a temporary eviction moratorium published on September 4, 2020 that was effective through December 31, 2020. The Consolidated Appropriations Act, 2021 extended the Order until January 31, 2021. On January 29, 2021, the CDC Director renewed the Order through March 31, 2021. The Order has now been further extended until June 30, 2021.

As of March 25, 2021, over 29,700,000 cases of COVID have been identified in the United States, with new cases reported daily, and over 540,000 deaths due to the disease. To qualify for the Order's protections, tenants, lessees, or residents of residential properties must provide a copy of the Declaration to the landlord, owner of the residential property, or other person who has a right to have the individual evicted or removed. The Declaration provides notification and attestation on behalf of the submitting party that they have met the required criteria to keep from being evicted; it should be given to the landlord, owner of the residential property, or other person who has a right to have the individual evicted or removed. The information collected will be limited to the signature of the tenant, lessee, or resident. The information will not be collected by CDC.

As stated in the Supporting Statement for OMB Control Number 0920-1303, under the request for an Emergency Clearance, OIRA has waived the 60-day comment period requirement. However, because this collection is exceeding 60 days, CDC is seeking additional notice and comment. Specifically, CDC is soliciting comments on the following aspects of the information collection form:

1. Did you find the form was accessible on mobile devices, such as tablets and telephones?

2. Was the from easy to read and understand?

3. Was the form sufficiently understandable by those using it, and how is the form being used?

4. Are there additional accessibility measures CDC should consider?

There will be no anticipated costs to respondents other than their time. Estimated burden for residents who make a maximum of $99,000 annually is 2,916,667 hours.

Estimated Annualized Burden Hours
Respondent | Form | Number of respondents | Number of responses per respondent | Average burden per response (in hours) | Total burden hours
Tenants, Lessees, or Residents | DECLARATION UNDER PENALTY OF PERJURY FOR THE CENTERS FOR DISEASE CONTROL AND PREVENTION'S TEMPORARY HALT IN EVICTIONS TO PREVENT FURTHER SPREAD OF COVID-19 | 35,000,000 | 1 | 5/60 | 2,916,667
Total |  |  |  |  | 2,916,667

Jeffrey M. Zirger,
Lead, Information Collection Review Office, Office of Scientific Integrity, Office of Science, Centers for Disease Control and Prevention.

[FR Doc. 2021-07379 Filed 4-9-21; 8:45 am]

BILLING CODE 4163-18-P